DEPARTMENT OF ENERGY

Federal Energy Regulatory Commission

[Docket No. AD08-5-000]

Compliance Workshop; First Notice of Workshop on Regulatory Compliance

May 21, 2008.

The staff of the Federal Energy Regulatory Commission (Commission) will hold a workshop on July 8, 2008, from 9:30 a.m. to 12 noon Eastern Daylight time, in the Commission Meeting Room at the Commission's Washington, DC headquarters, 888 First Street, NE. This workshop will provide a forum for interested participants to share perspectives and information on federal energy regulatory compliance. The workshop will focus, in particular, on the elements of a sound compliance program. One or more of the Commissioners may attend the workshop.

The purpose of this notice is to advise the public of the date and time. More information on the topics to be explored and the format of the workshop will be provided in a subsequent notice.

This workshop will neither be Web-cast nor transcribed. All interested parties are invited, and there is no registration fee to attend.

Commission conferences are accessible under section 508 of the Rehabilitation Act of 1973. For accessibility accommodations please send an e-mail to accessibility@ferc.gov or call toll free 1-866-208-3372 (voice) or 202-208-1659 (TTY), or send a FAX to 202-208-2106 with the required accommodations.

Questions about the workshop may be directed to Jamie Jordan, Attorney-Advisor, Office of Enforcement, Division of Investigations, by e-mail at Jamie.Jordan@ferc.gov or by telephone at 202-502-6628.

Kimberly D. Bose,
Secretary.

[FR Doc. E8-11916 Filed 5-28-08; 8:45 am]

BILLING CODE 6717-01-P